DEPARTMENT OF COMMERCE

International Trade Administration

[A-351-857]

Raw Honey From Brazil: Final Results of Antidumping Duty Administrative Review, 2021-2023

AGENCY: Enforcement and Compliance, International Trade Administration, Department of Commerce.

SUMMARY: The U.S. Department of Commerce (Commerce) determines that raw honey from Brazil was sold in the United States at prices below normal value. The period of review (POR) is November 23, 2021, through May 31, 2023.

DATES: Applicable April 14, 2025.

FOR FURTHER INFORMATION CONTACT: Rachel Jennings or John Frye, AD/CVD Operations, Office V, Enforcement and Compliance, International Trade Administration, U.S. Department of Commerce, 1401 Constitution Avenue NW, Washington, DC 20230; telephone: (202) 482-1110 or (202) 482-3035, respectively.

SUPPLEMENTARY INFORMATION:

Background

On July 5, 2024, Commerce published the preliminary results of this review and invited parties to comment.¹ This administrative review covers 18 producers/exporters of raw honey from Brazil.² Commerce selected two respondents for individual examination, Apis Nativa Agroindustrial Exportadora Ltda. (Apis Nativa) and Melbras Importadora E Exportadora Agroindustrial Ltda. (Melbras). On July 22, 2024, Commerce tolled certain deadlines in this administrative proceeding by seven days.³ On October 23, 2024, Commerce extended the final results of this review by 60 days.⁴ On December 9, 2024, Commerce tolled the deadline to issue the final results in this administrative review by an additional 90 days, to April 8, 2025.⁵ For a complete description the events that occurred since the Preliminary Results, see the Issues and Decision Memorandum.⁶

¹ See Raw Honey from Brazil: Preliminary Results and Partial Recission of Antidumping Duty Administrative Review; 2021-2023, 89 FR 55582 (July 5, 2024) (Preliminary Results), and accompanying Preliminary Decision Memorandum.

² See Preliminary Results at Appendices II and III.

³ See Memorandum, “Tolling of Deadlines for Antidumping and Countervailing Duty Proceedings,” dated July 22, 2024.

⁴ See Memorandum, “Extension of Deadline for Final Results of Antidumping Duty Administrative Review,” dated October 23, 2024.

⁵ See Memorandum, “Tolling of Deadlines for Antidumping and Countervailing Duty Proceedings,” dated December 9, 2024.

⁶ See Memorandum, “Issues and Decision Memorandum for the Final Results of the Antidumping Duty Administrative Review of Raw Honey from Brazil; 2021-2023,” dated concurrently with, and hereby adopted by, this notice (Issues and Decision Memorandum).

Commerce conducted this review in accordance with section 751 of the Tariff Act of 1930, as amended (the Act).

Scope of the Order ⁷

⁷ See Raw Honey from Argentina, Brazil, India, and the Socialist Republic of Vietnam: Antidumping Duty Orders, 87 FR 35501 (June 10, 2022) (Order), as amended by See Raw Honey from Brazil: Notice of Court Decision Not in Harmony With the Final Determination of Antidumping Duty Investigation; Notice of Amended Final Determination; Notice of Amended Antidumping Duty Order, 90 FR 9225 (February 10, 2025) (Amended Final).

The merchandise covered this Order is raw honey from Brazil. For a complete description of the scope of the Order, see the Issues and Decision Memorandum.

Analysis of Comments Received

All issues raised in the case and rebuttal briefs are addressed in the Issues and Decision Memorandum. A list of the issues that parties raised, and to which we responded in the Issues and Decision Memorandum, is provided in Appendix I. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from parties, we made no changes to the margin calculations from the Preliminary Results. For a discussion of the comments, see the Issues and Decision Memorandum.

Rate for Non-Examined Companies

The Act and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero and de minimis margins, and any margins determined entirely {on the basis of facts available}.”

In this review, we calculated weighted-average dumping margins of zero percent for Apis Nativa and 2.31 percent for Melbras. Therefore, in accordance with section 735(c)(5)(A) of the Act, we are applying Melbras' weighted average dumping margin of 2.31 percent to the non-examined companies (see Appendix II for a full list of these companies), because this is the only rate that is not zero, de minimis, or based entirely on facts available.

Final Results of Review

Commerce determines that the following weighted-average dumping margins exist during the period November 23, 2021, through May 31, 2023:

Exporter/producer | Weighted-average dumping margin (percent)
Apis Nativa Agroindustrial Exportadora Ltda | 0.00
Melbras Importadora E Exportadora Agroindustrial Ltda | 2.31
Non-Examined Companies ⁸ | 2.31

Disclosure

⁸ See Appendix II.

Normally, Commerce discloses to interested parties the calculations of the final results of an administrative review within five days of a public announcement or, if there is no public announcement, within five days of the date of publication of the notice of final results in the Federal Register, in accordance with 19 CFR 351.224(b). However, because we made no changes from the Preliminary Results, there are no new calculations to disclose.

Assessment Rates

Pursuant to section 751(a)(2)(C) of the Act and 19 CFR 351.212(b)(1), Commerce has determined, and U.S. Customs and Border Protection (CBP) shall assess, antidumping duties on all appropriate entries covered by this review. Where an importer-specific assessment rate is either zero or de minimis, we will instruct CBP to liquidate the appropriate entries without regard to antidumping duties. Accordingly, because the weighted-average dumping margin for Apis Nativa is zero percent, we will instruct CBP to liquidate Apis Nativa's entries without regard to antidumping duties in accordance with 19 CFR 351.106(c)(2). Further, because Melbras' weighted average dumping margin is not zero or de minimis, Commerce calculated importer-specific assessment rates based on the ratio of the total dumping calculated for the examined sales to the total entered value of the sales.

Consistent with Commerce's assessment practice, for entries of subject merchandise during the POR produced by Apis Nativa or Melbras for which these companies did not know that the merchandise was destined for the United States, we will instruct CBP to liquidate those entries at the all-others rate established in the original less-than-fair-value (LTFV) investigation of 9.38 percent,⁹ if there is no rate for the intermediate company(ies) involved in the transaction.¹⁰

⁹ See Amended Final, 90 FR at 9226.

¹⁰ For a full discussion of this practice, see Antidumping and Countervailing Duty Proceedings: Assessment of Antidumping Duties, 68 FR 23954 (May 6, 2003).

For the companies that were not selected for individual review, we will assign an assessment rate based on the review-specific average rates, calculated as noted in the “Rates for Non-Examined Companies” section above. We intend to instruct CBP to take into account the “provisional measures deposit cap,” in accordance with 19 CFR 351.212(d). Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the companies listed in these final results will be equal to the weighted-average dumping margin established in the final results of this administrative review; (2) for merchandise exported by producers or exporters not covered in this administrative review but covered in a prior segment of the proceeding, the cash deposit rate will continue to be the company-specific rate published for the most recently-completed segment of this proceeding in which they were reviewed; (3) if the exporter is not a firm covered in this review or the original LTFV investigation but the producer is, the cash deposit rate will be the rate established for the most recently-completed segment of this proceeding for the producer of the subject merchandise; and (4) the cash deposit rate for all other producers or exporters will continue to be 9.38 percent, the all-others rate established in the LTFV investigation.¹¹ These cash deposit requirements, when imposed, shall remain in effect until further notice.

¹¹ See Amended Final, 90 FR at 9226.

Notification to Importers

This notice serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order (APO)

This notice also serves as a final reminder to parties subject to an APO of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

Commerce is issuing and publishing these final results in accordance with sections 751(a)(1) and 777(i)(1) of the Act, and 19 CFR 351.221(b)(5).

Dated: April 8, 2025.
Christopher Abbott,
Deputy Assistant Secretary for Policy and Negotiations, performing the non-exclusive functions and duties of the Assistant Secretary for Enforcement and Compliance.

Appendix I

List of Topics Discussed in the Issues and Decision Memorandum

I. Summary

II. Background

III. Scope of the Order

IV. Changes Since the Preliminary Results

V. Discussion of the Issues

Comment 1: Whether to Base Apis Nativa and Melbras' Dumping Margins on Total Adverse Facts Available (AFA)

Comment 2: Whether Commerce Should Rely on its Standard Cost Methodology for Apis Nativa

VI. Recommendation

Appendix II

List of Companies Not Individually Examined

1. Apidouro Comercial Exportadora E Importadora Ltda.

2. Apiários Adams Agroindustrial Comercial Exportadora Ltda.

3. Breyer & Cia. Ltda.

4. Cooperativa Mista Dos Apicultores D

5. Flora Nectar

6. Lambertucci

7. Minamel

8. Nectar Floral

9. S & A Honey Ltda.

10. Apiário Diamante Comercial Exportadora Ltda/Apiário Diamante Produção e Comercial de Mel Ltda (Supermel)

11. Central de Cooperativas Apícolas do Semiárido Brasileiro—CASA APIS

12. Floranectar Ind. Comp. Imp. E Exp. De Mel

13. Minamel Agroindústria Ltda.

14. Annamell Imp. E Exp. De Produtos Apicoloas Ltda.

15. Conexão Agro Ltda ME

16. Wenzel's Apicultura Comercio Industria Importacao E Exportacao Ltda.

[FR Doc. 2025-06324 Filed 4-11-25; 8:45 am]

BILLING CODE 3510-DS-P